DEPARTMENT OF JUSTICE

Office of Juvenile Justice and Delinquency Prevention

[OJP (OJJDP)-1298]

Program Announcement for the National Girls Institute

AGENCY: Office of Justice Programs, Office of Juvenile Justice and Delinquency Prevention, Justice.

ACTION: Notice of solicitation.

SUMMARY: The Office of Juvenile Justice and Delinquency Prevention (OJJDP) is requesting applications to establish a national-scope institute to raise public awareness of the underlying factors that place girls at risk of involvement in the juvenile justice system and to advance promising prevention, intervention, treatment, education, detention, and aftercare programs and services within the context of an integrated continuum of care for delinquent and at-risk girls and their families. Multilevel and multidisciplinary training based on OJJDP's girl-focused curriculums is expected to improve the skills, knowledge, and performance of decisionmakers, administrators, and direct care professionals who work with or are concerned about girls' issues. Technical assistance support is expected to facilitate improved cross-agency programming and systemic responses to girls at risk and young female offenders in the juvenile justice system. It is also expected that a working group of advisors and collaborators will be formed to plan and convene a symposium on girls in 2001.

DATES: Applications must be received by 5:00 p.m. ET on December 1, 2000.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the OJJDP Application Kit from the Juvenile Justice Clearinghouse at 800-638-8736. The Application Kit is also available at OJJDP's Web site at www.ojjdp.ncjrs.org/grants/about.html#kit. (See “Format” later in this program announcement for instructions on application standards.)

FOR FURTHER INFORMATION CONTACT: Gwendolyn Dilworth, Program Manager, Office of Juvenile Justice and Delinquency Prevention, 202-514-4822. [This is not a toll-free number.]

SUPPLEMENTARY INFORMATION:

Purpose

The purpose of this project is to establish a National Girls Institute (NGI) to advance the understanding and application of promising prevention, intervention, treatment, education, detention, and aftercare programs and services for delinquent and at-risk girls. NGI will promote integrated and innovative programs that employ a comprehensive service delivery system appropriate to the unique developmental and culturally specific needs of girls and their families. The Institute will accomplish its mission through a broad range of activities, including program development and enhancement, research activities, training and technical assistance, information dissemination, collaboration with Federal and private agencies, and policy development.

Background

For nearly a decade, the Office of Juvenile Justice and Delinquency Prevention (OJJDP) has had considerable involvement in issues related to girls in the juvenile justice system. The Office recognizes the importance of increasing understanding of the factors that contribute to female juvenile offending and those that protect at-risk girls from becoming offenders.

In the 1992 reauthorization of the Juvenile Justice and Delinquency Prevention (JJDP) Act of 1974, as amended (42 U.S.C. 5601 et seq.), Congress added language in Section 223 (8)(B) (i-ii) that specifically requires all States applying for Part B Formula Grants program funds to include in their plans: “(i) An analysis of gender-specific services for the prevention and treatment of juvenile delinquency, including the types of such services available and the need for such services for females; and (ii) a plan for providing needed gender-specific services for the prevention and treatment of juvenile delinquency.”

Congress also enacted the State Challenge Activities program under Title II, Part E, in the 1992 amendments. The Challenge Activities program provides incentives for States participating in the Title II, Part B, Formula Grants program to improve their juvenile justice systems by developing, adopting, or improving policies and programs in 1 or more of 10 specified Challenge areas. Congress has provided $10 million annually to States since fiscal year (FY) 1995 to address one or more of 10 statutorily identified Challenge areas.

Several States have sought to meet the treatment needs of young females through the following State Challenge Activities:

(A) developing and adopting policies and programs to provide basic health, mental health, and appropriate education services, including special education, for youth in the juvenile justice system; (B) developing and adopting policies and programs to provide access to counsel for all juveniles; (C) increasing community-based alternatives to incarceration by establishing programs (such as expanded use of probation, mediation, restitution, community service, treatment, home detention, intensive supervision, and electronic monitoring) and developing and adopting a set of objective criteria for the appropriate placement of juveniles in detention and secure confinement; * * * (E) developing and adopting policies to prohibit gender bias in placement and treatment and establishing programs to ensure female youth access to the full range of health and mental health services, including treatment for physical or sexual assault or abuse, self-defense instruction, parenting education, general education, and training and vocational services; * * * (G) developing and adopting policies and programs designed to remove status offenders from the jurisdiction of the juvenile court, when appropriate; (H) developing and adopting policies and programs designed to serve as alternatives to suspension and expulsion; and (I) increasing aftercare services for juveniles in the justice system by establishing programs and developing and adopting policies to provide comprehensive health, mental health, education, family, and vocational services to youth upon release from the juvenile justice system.

Twenty-four States and the District of Columbia have used Challenge Grant funds to develop specific approaches that address the needs of female offenders in their juvenile justice systems; create public awareness and professional competence through staff training conferences, publications, and technical assistance; develop curriculums on gender specific topics; and produce program regulations, policies, and/or procedures.

OJJDP has initiated a unique collaborative effort between Connecticut and Illinois. OJJDP is using the lessons learned from the Girls Link Juvenile Female Offender Project in Cook County, IL, to develop specialized delinquency prevention and detention programs for Connecticut girls. Needs and risk assessment instruments developed as part of the Girls Link Project have been incorporated into the Connecticut project. A focus of the project involves systemic reforms at the State level to improve the way female juvenile offenders are treated. Creating a hierarchy of sanctions, with specific provisions for pregnant girls and teen mothers, and making effective use of Medicaid/Medicare reimbursements are two strategies being employed.

Also, OJJDP's Comprehensive Strategy for Serious, Violent, and Chronic Juvenile Offenders (Wilson and Howell, 1993) assists communities in developing a working blueprint for measurably reducing juvenile offending (Howell, 1995). The Comprehensive Strategy pilot sites (Fort Myers and Jacksonville, FL, and San Diego, CA) and local jurisdictions in eight Comprehensive Strategy States (Florida, Iowa, Maryland, Ohio, Oregon, Rhode Island, Texas, and Wisconsin) have completed an extensive strategic planning process that included identifying the service needs of girls at risk or involved with the juvenile justice system. In a unique partnership, PACE (Practical, Academic, Cultural Education Center for Girls, Inc.) and the National Council on Crime and Delinquency are assisting the pilot sites in the design and development of a comprehensive continuum of services for girls, their families, and—where applicable—their children.

In addition to State-level support, OJJDP has provided guidance directly to the field to support promising or effective gender-specific strategies. For example, in October 1999, OJJDP's Juvenile Justice journal published “Investing in Girls: A 21st Century Strategy,” which examined the troubling effects of the factors and life circumstances that are often precursors for girls in or on the edge of the juvenile justice system (Acoca, 1999). Also included in that issue of Juvenile Justice were two articles about exemplary efforts: “The Female Intervention Team,” which discussed a gender-specific program for girls adjudicated delinquent by the Maryland State court system (Daniel, 1999), and “National Girls’ Caucus,” which spotlighted an advocacy group that focuses national attention on the specific needs of girls involved with the juvenile justice system (Ravoira, 1999).

Similarly, OJJDP, in collaboration with Greene, Peters, & Associates (GPA), published Guiding Principles for Promising Female Programming: An Inventory of Best Practices (1998). This inventory highlights exemplary and effective gender-specific program practices for use by State and local jurisdictions. GPA has contracted with the Northwest Regional Educational Laboratory in Oregon to produce three gender-focused curriculums designed to build professional understanding and capacity in addressing girls needs.

OJJDP also supports the Juvenile Mentoring Program (JUMP), which focuses on providing mentors for youth at risk of delinquency, gang involvement, educational failure, or dropping out of school. JUMP sites in California, Colorado, Georgia, Michigan, Pennsylvania, and South Carolina provide gender-specific programming for girls. Despite these efforts by OJJDP and the States, statistics demonstrate that more needs to be done to meet the critical needs of girls.

Juvenile Female Arrests and Involvement in At-risk and Delinquent Behavior Continue To Rise at an Alarming Rate

A review of recent statistical trends provides data on the rising number of girls entering the juvenile justice system. In 1998, females accounted for 27 percent or 697,000 of the 2,603,300 juvenile arrests (Snyder, 1999). The Juvenile Violent Crime Index arrest rate for females more than doubled between 1987 and 1994, then fell in each of the next 3 years. Nonetheless, the growth in juvenile violent crime arrest rates between 1994 and 1998 was far greater for females than for males in most offense categories. According to the Federal Bureau of Investigation (FBI) Uniform Crime Reporting Program, the most serious increase in offenses for young females included aggravated assault (up 7 percent), simple assault (up 29 percent), and drug abuse violations (up 43 percent) (Snyder, 1999). Even with the recent decline, the female violent crime arrest rate for 1997 was 103 percent above the 1981 rate, while the male arrest rate was 27 percent above its 1981 level. In 1998, females accounted for 22 percent of juvenile arrests for aggravated assault and running away from home. According to an analysis of juvenile arrest patterns and trends, female arrests for weapons law violations nearly tripled between 1981 and 1997, while male rates nearly doubled (Snyder, 1999). Further, delinquency cases involving females rose 76 percent between 1987 and 1996, compared with 42 percent for males. The disparate growth in cases involving females outpaced the growth for males for all but drug offense cases. These statistics seem to indicate broad increases in the proportion and seriousness of delinquent acts committed by girls. However, the reasons for the leap in the number of cases involving girls are vigorously disputed by researchers, policymakers, and direct service personnel (Chesney-Lind and Shelden, 1997). For example, there is concern about “bootstrapping,” which refers to relabeling a status offense (e.g., running away, curfew violation, truancy) as a delinquent offense. The debate over bootstrapping centers on the belief that it fosters the incarceration of a disproportionate number of girls in detention facilities far out of proportion to the seriousness of their offenses (Girls Inc., 1996; Chesney-Lind, 1999).

Even more disturbing, leading academics who have examined the various elements of life circumstances prevalent among adult and juvenile female offenders have unveiled a distinct route into the justice system. Over 70 percent of the girls who enter the justice system report a history of physical, sexual, or emotional victimization and drug abuse. These childhood victimizations are now being correlated with lifelong health, learning, and behavioral disorders, including adolescent delinquency (Acoca, 1998). Moreover, leading researchers and academicians postulate that the abusive histories/backgrounds typically shared by adult and juvenile female offenders are a significant factor in the victim-to-offender pathway of female juvenile delinquency (Belknap and Holsinger, 1998). There is no single factor that puts girls at risk of delinquency. However, indicators of the underlying causes of female juvenile delinquency point to early victimization as a first step along a pathway into the juvenile justice system.

The increasing numbers of girls involved in the juvenile justice system and the scarcity of information about gender and culturally specific programs and services that meet their changing and unique needs have prompted juvenile justice, public health, mental health, education, labor, corrections, and youth service professionals to reexamine the developmental and societal factors that place girls at risk for delinquent behavior.

Although female and male juvenile offenders may experience similar educational, familial, and economic problems, several gender-specific factors can exacerbate the problems girls face. These include higher rates of sexual abuse, physical abuse, substance abuse, mental health needs, teen pregnancy, adolescent motherhood, alternative lifestyles, and problems associated with the early onset of puberty (Chesney-Lind and Freitas, 1999; Greene, Peters, & Associates, 1998). Although any one of these factors may contribute to girls' increased risk of delinquency, they seldom occur in isolation.

Ethnic minorities are disproportionately represented in the female offender population (Bergsmann, 1989; Campbell, 1995; Community Research Associates, 1998). African American girls make up nearly half of all those in secure detention and Latinas constitute 13 percent (Bergsmann, 1994). Although Caucasians constitute 65 percent of the population at risk, they account for only 34 percent of girls in secure detention (Greene, Peters, & Associates, 1998). A census of private facilities in the early 1990's showed that well over half (53 percent) were Caucasian (Moone, 1997). Finally, 7 of every 10 cases involving Caucasian girls are dismissed, compared with 3 of every 10 cases for African American girls (Greene, Peters, & Associates, 1998).

The emerging profile of women offenders parallels that of female delinquents, with similar risk factors impacting women's and girls' lives. More than 4 in 10 female adult inmates report a history of physical or sexual abuse. Nearly 6 in 10 grew up in a household with at least 1 parent absent. Women of color are similarly disproportionately represented among the adult female offender population. Women prisoners are likely to be poor, undereducated, and single parents. About 20 percent of convicted adult female offenders were also adjudicated delinquent as juveniles (Snell, 1994; Belknap, 1996).

Efforts Are Under Way To Review the Circumstances Behind the Increases in Female Juvenile Delinquency Activities

OJJDP and the National Institute of Mental Health are cosponsoring the research of Dr. Rolf Loeber at the University of Pittsburgh on the Development of Conduct Disorder in Girls project. The project, a 5-year longitudinal study, is designed to examine the development of conduct disorder in a sample of 2,500 inner-city girls between the ages of 6 and 8 and will provide information on the etiology, comorbidity, and prognosis of conduct disorder in girls.

In addition, OJJDP currently supports two field-initiated research projects that will specifically address the needs and issues of young women at risk of involvement or involved in the juvenile justice system. The first is an evaluation that is being conducted by researchers at the University of Michigan. The project, A Comparative Evaluation of Three Programs for Adolescent Female Offenders, is evaluating three Wayne County, MI, programs for adolescent female offenders. The second field-initiated research project, GIRLS (Gaining Insight Into Relationships for Lifelong Success), is being conducted by researchers at the University of Georgia Research Foundation to study ways to address female delinquency through a relational approach.

Awareness of the Essential Components of Promising or Effective Integrated and Innovative Programs for Girls Needs To Be Heightened

Supported by training, technical assistance, and direct funding from OJJDP, States and local jurisdictions have planned and implemented various initiatives involving data analysis, needs assessment, intervention, treatment and education programs, and reform efforts that have brought modest awareness to the importance of integrated service delivery in the provision of gender-specific services and programming for at-risk and delinquent girls.

Understanding the Distinctions Between Gender-Specific Programming and Gender-Specific Services Is Key to Ensuring Effective Cross-Agency Programs for Girls

Gender-specific programs for girls employ comprehensive and integrated methods that address and support the psychological development process of female adolescents while fostering connections within relationships in the context of a safe and nurturing environment (Lindgren, 1996). Conversely, the term “gender-specific services” refers to the provision of assistance (e.g., pregnancy testing, prenatal care, counseling, day care) that is not provided within the framework of a comprehensive service delivery system. Therefore, for the purpose of this initiative, gender-specific programs for girls are those designed to meet the unique needs of females, that value the female perspective, celebrate and honor the female experience, respect and take into account female development, and empower young women to reach their full potential (Girls Inc., 1996).

In spite of accomplishments in girls' programming, eliminating gender bias and ensuring that young females have access to a full range of services remain a challenge. OJJDP will address this challenge by expanding knowledge of effective prevention and treatment approaches and assisting States and local communities to develop the necessary policies, practices, and services that ensure a comprehensive, responsive, and seamless continuum of care for girls involved in the juvenile justice system.

To accomplish this mission, OJJDP is funding two related programs: the National Girls Institute and the Girls Study Group project. The latter will be a 2-year effort that will review the research literature on the epidemiology and etiology of female juvenile offending and its consequences, using a female-focused conceptual framework; synthesize information from diverse sources; and produce reports and publications that communicate the results. It is anticipated that there will be close collaboration between the two projects in providing critical information to the field and with other Federal agencies and private corporations with an interest in this project.

Goals

The goals of the National Girls Institute initiative are to raise national awareness of the underlying factors that place girls at risk of involvement in the juvenile justice system, advance effective gender-specific programming for girls, promote policies and practices that protect girls from delinquent and abusive behavior, improve staff job performance through training and technical assistance, and promote an integrated continuum of care for at-risk and delinquent girls and their families.

Objectives

• Systematically examine and report on effective assessment and reassessment tools used in detention and residential facilities to assess girls' programming needs and standards of practice that ensure continuity in programming between institutions and communities.

• Provide multilevel training and technical assistance based on OJJDP's girl-focused training curriculums and the findings of appropriate diagnostic assessment instruments to improve the job performance of staff who work with girls, service delivery systems of detention or residential facilities, and other organizations that serve girls.

• Identify information, resources, current practices, or regulations that do not adequately support the needs of delinquent or at-risk girls and prepare recommendations to address these gaps.

• Collaborate with OJJDP's Girls Study Group on related research activities.

• Facilitate communication and collaboration with other Federal, State, national, and community-based organizations that serve or are concerned about girls.

• Plan and convene a national symposium on girls in 2001.

Program Strategy

OJJDP will competitively award a single cooperative agreement of up to $1,200,000 for a 12-month budget period within a 5-year project period to administer centralized, national-scope educational activities and to develop products that will improve services and support the formulation of practical and just policies pertaining to at-risk and delinquent girls. Tasks will be achieved through a combination of needs assessments, training and technical assistance, research activities, and policy formulation.

NGI is expected to become fully staffed in its first year. The applicant should describe how this will be accomplished and attach key staff résumés and/or job descriptions. In general, the implementation plan should foster innovation and clearly identify the work to be accomplished in both phases of the project. Requisites for the NGI grantee are a demonstrated ability to develop and direct a national-scope training and technical assistance, research, and advocacy effort with multiple dimensions within a short timeframe.

The successful applicant will have substantial experience in producing, modifying, and/or updating a wide range of practical resource materials and curriculums. Experience in assessing personnel or organizational training needs and providing onsite assistance to address issues described in this solicitation will also be a requisite.

The expertise and skills of consultants who will provide training and technical assistance and the plan for recruiting, selecting, orienting, and managing them must be discussed in the application. The applicant must demonstrate its ability to bring together individuals who can display proven expertise and excellence in areas including, but not limited to, developmental psychology, juvenile corrections and detention, education, medicine, mental health, culture and ethnicity, vocational and life skills, mediation and negotiation, and policy and organizational development. Consultant abilities must illustrate a range of skills and expertise with issues of female development and staff challenges in working effectively with difficult and troubled girls and girls already in the juvenile justice system.

It is also expected that the grantee will establish a 9-member advisory group to support the development and implementation of NGI activities and collaborate with a broad base of Federal and private organizations to ensure long-term financial support for NGI. Representatives from NGI will serve as ex-officio members of OJJDP's Girls Study Group to ensure coordination of research activities and related products.

Scope of Work

The following delineates the two phases of work to be conducted under the cooperative agreement for purposes of planning and managing the NGI. The grantee is responsible for developing a plan, based on the elements below, that specifies how the NGI will become operational.

Phase I—Establish NGI and Build Organizational Capacity (Months 1 Through 4)

Tasks

• Develop a managerial structure for NGI with the staff competencies and organizational capabilities required for successful implementation of the initiative. At a minimum include the following key elements in the operation of NGI:

1. Clearly stated operational goals and objectives that are based on the overall mission of NGI.

2. A program strategy for performing the major activities of the initiative, i.e., the overall approach for managing this multifaceted initiative.

3. A plan detailing when activities will be started and completed, e.g., tasks, timelines, and milestones; hiring schedule; rèsumès of key staff; staff duties; and a budget itemizing the expenditures required to achieve or exceed objectives. (Modifications to the budget may be proposed regarding the deliverables as assessments reveal a new or different area of skill deficiencies or if any deliverables are determined not to meet the objectives, previously outlined, as effectively and efficiently as an alternative approach would. Sufficient explanation must be provided to determine the merits of the proposed change. The project budget must realistically reflect costs associated with operating NGI.

4. A general guide for setting policy or decisionmaking within the organization.

• Maintain and expand online access to reference and referral resources. Install and maintain toll-free telephone access to NGI.

• Form, support, and meet biannually with a nine-member advisory group composed of representatives of State and local juvenile justice, detention, health and mental health, education, advocacy, research, community agencies, institutions, and organizations that serve at-risk and delinquent girls. Facilitate the work of subcommittees to advise NGI's plans and activities.

Deliverables

• A comprehensive strategic plan that details the following:

1. Implementation plan for addressing the NGI goals.

2. Operational management manual that at a minimum addresses the key elements described in the “Tasks” section.

• Interactive information and technical assistance Web site to facilitate communication, information dissemination, and announcement of scheduled events and updates.

• Review of advisory recommendations in areas including the changing needs of girls, updated research findings, program strategies, and policy development.

Phase II—Survey Existing Practices, Document Trends and Resource Gaps, and Implement Program Elements (Months 5 Through 12)

Tasks

• Conduct a periodic survey and review of specific program efforts, with emphasis on operational costs and service delivery components, to track the participation and performance levels of girls in detention as shown in large-scale assessments.

• Collaborate with OJJDP's Federal Working Group on Gender Issues and other related efforts to update research and evaluation information on changes in girls' social, medical, and psychological needs; delinquency trends; educational models; risk and resiliency factors; and community-based prevention, intervention, and treatment strategies to identify and promote promising, comprehensive, multimodal approaches that focus on the multifaceted concerns of girls.

• Collect and review State and local policies and practices to assess the factors affecting how girls are treated by the juvenile justice system and to determine the best approaches for promoting a comprehensive continuum of care for girls.

• Prepare and disseminate detailed reports/bulletins on survey findings to inform OJJDP and formulate policy and resource allocation recommendations in services and programming for girls.

• Develop and implement a plan to conduct and manage multifaceted training and technical assistance support for agencies and organizations seeking to initiate services for girls at risk of delinquency or to improve the provision of services to incarcerated girls.

• Prepare and submit a strategic marketing plan that positions NGI to reach and provide services to those who would best benefit from them. Specify proposed marketing methods and timelines for implementing the marketing plan.

• Conduct training needs assessments to determine the specific skills, knowledge, information, and experiential levels of potential training and technical assistance recipients. Analysis of assessment data will inform the training content and the elements of skill that are essential to satisfactory performance improvement.

• Develop a process for collecting and cataloging literature and research-based information such as assessment and reassessment tools, curriculums, reference materials and manuals, planning and problem-solving instruments, and technology-based resources.

• Outline the approach for recruiting and maintaining a pool of experienced trainers and subject matter experts (See “Program Strategy” section above).

• Provide trainings, using Beyond Gender Barriers: Programming Specifically for Girls (Greene, Peters, & Associates and Northwest Regional Educational Laboratory, forthcoming), a set of two curriculums (currently being revised under an OJJDP cooperative agreement) for decisionmakers and newly assigned direct care professionals, and adapt the curriculums, as appropriate, to ensure the accuracy and timeliness of the instructional material. (A third curriculum, a training of trainers, is being developed under the same grant to provide instruction for those with training responsibilities in this area.) Additionally, design and pilot topical workshops that meet the specific needs of experienced professionals who work with girls. Work in this area will use uniform protocols for needs assessment, delivery of training and technical assistance, evaluation tracking, and followup. Curriculum development must be based on adult learning theory and provided in the context of an interactive learning environment. The successful applicant will be responsible for providing 6 training workshops for up to 80 participants in each session. This will include responsibility for arranging workshop locations, facilities, training aids, marketing, and evaluations to assess the relevancy and learning transferability of the lessons provided.

• Provide up to 10 onsite technical assistance interventions, preferably as a followup to training conducted by NGI. Develop technical assistance assessment and evaluation protocols and submit reports describing the purpose and outcomes of onsite technical assistance. Provide program administrators with tools to identify future professional development needs of direct care professionals.

• Produce participant manuals, guides, and other written and visual products to facilitate information exchange on gender programming and systems-improvement strategies.

• Collaborate with researchers and evaluators in the girls gender field. Serve as ex-officio member of OJJDP's Girls Study Group, which plans to review and synthesize empirical research on female juvenile delinquency and report on risk and protective factors through varying stages of female adolescent development as it relates to peer, family, school, community, and individual domains.

• Form and maintain regular communication through ongoing committee assignments and biannual meetings with an advisory group to review and advise on NGI's activities and plans. The advisory group should be composed of representatives of State and local agencies, juvenile justice, education, advocacy groups, research organizations, and health, labor, faith-based, and other organizations that serve girls. The advisory group membership should reflect ethnic and cultural diversity in addition to the subject matter expertise described in the “Program Strategy” section.

• Participate in appropriate meetings and national conferences convened by OJJDP, other Federal and State agencies, educational institutions, and national organizations to promote a wide exchange of information and other collaborative efforts to ensure that girls have equal access to a full range of services.

• Work closely with advisors, collaborators, and OJJDP to form a working group to plan and convene a national symposium on girls. In 1996, OJJDP funded Girls Inc. to assemble a national conference on girls. As an outcome of the conference, Girls Inc. produced a report, Prevention and Parity: Girls in Juvenile Justice (1996). The report identified several key points for further investigation. Since that time, many States have changed the way they view girls at risk and female offenders. Consequently, OJJDP believes that a need exists for professionals to come together to scrutinize and deliberate on various responses to those changes and other challenges facing those who work with girls. Therefore, the NGI grantee will convene a national symposium as the forum for conducting this exchange and for learning about effective programming for girls.

Deliverables

• Reports, Bulletins, and Fact Sheets on survey findings and promising, multimodal approaches that include the social, educational, vocational, developmental, cultural, and treatment issues of girls in programming and service delivery.

• Policy recommendations to support resource allocation in services and programming for girls, improve the treatment of girls adjudicated delinquent, and foster their successful reintegration to the community.

• Monograph on program and policy advances in public correctional institutions.

• A report suitable for national distribution that details the findings and recommendations from the National Symposium on Girls.

• Modifications, as appropriate, to OJJDP's gender-specific curriculums specifically designed for three distinct audiences: (1) decisionmakers and administrators, (2) newly hired direct care personnel assigned to work with girls, and (3) experienced trainers selected to deliver gender-specific training for girls. Curriculums will be reviewed prior to delivery by the OJJDP program manager to ensure that the instructional materials are accurate, relevant, and up to date.

• A written plan detailing the marketing approach for NGI.

• Protocol(s) for assessing the information, resource, and professional development needs of decisionmakers who determine policy and staff who work directly with girls or are interested in working with girls.

• Database of consultants and subject matter experts such as those described in the “Program Strategy” section.

• Training and technical assistance delivery schedule that includes the location, description of the audience or attendees, the training/technical assistance need being addressed, dates, and the number of days required onsite.

• Procedures and forms for arranging consultant travel, payment of services, and timely reimbursement of expenses.

Task Guidelines

The NGI grantee is expected to facilitate the efficient and professional operation of NGI and to perform tasks as specified in the “Program Strategy” section. Additionally, the grantee is expected to use uniform protocols for needs assessment, delivery of training and technical assistance, evaluation tracking, and followup. Curriculum development and/or modifications will be based on adult learning theory and will be delivered within an interactive learning context. Close interaction is required among NGI, OJJDP, the NGI advisory group, the Girls Study Group, and other Federal agency representatives, as OJJDP deems appropriate. The NGI grantee must understand and apply the following principles to ensure effective implementation of the project and advance programming that meets the diverse needs of at-risk and delinquent girls:

• Effective programming for girls requires skilled and knowledgeable administrators, direct care personnel, and others who are concerned about girls. OJJDP's strategic training and technical assistance will advance the understanding and application of promising and innovative practices to prevent and reduce delinquency and violence by girls.

• Jurisdictions are requesting training and technical assistance to improve the effectiveness of staff who work with girls. To measure the progress in meeting the learning needs of participants, workshops and forums will proceed with a preassessment survey and end with feedback. Feedback will include a measurement of the posttraining behavior change of participating agencies, organizations, and jurisdictions.

• NGI staff and consultants must reflect the diversity of cultures and ethnic groups represented among the population of at-risk and delinquent girls. OJJDP intends to encourage representation along the full ethnic, cultural, and racial spectrum of the United States and an awareness of the socioeconomic conditions often associated with at-risk or delinquent girls.

Eligibility Requirements

OJJDP invites applications from public and private agencies, organizations, or institutions. Private, for-profit organizations must agree to waive any profit or fee. Applicants must have strong, demonstrated experience in planning, managing, and administering a national-scope organization with multiple components. In particular, applicants must have strong experience in designing and overseeing training and technical assistance support in gender-specific programming and services that are grounded in fostering the positive developmental needs of girls.

Selection Criteria

The applications will be rated by a peer review panel according to the criteria outlined below. A site visit may be conducted to confirm information provided in the application.

Conceptualization of Need (10 points)

The application must convey a clear understanding of the purpose, work requirements, specific gender issues relevant to girls, and related concerns addressed in this program announcement. The applicant should discuss the issues and problems related to at-risk and delinquent girls in juvenile justice practice in recent years. Moreover, the applicant should demonstrate knowledge of the developmental, social, cultural, and noncriminal risk factors that impeded girl-centered responses to the needs of girls at risk and those involved with the juvenile justice system. Further, the applicant must demonstrate knowledge of gender programming for girls, best practices, and promising strategies. Finally, the applicant must convey an understanding of the expected results of this effort, possible obstacles to be overcome in order to meet or exceed program objectives, and ways in which collaboration will enhance the achievement of the performance objectives. Concerns and obstacles associated with delivery of training and technical assistance to decisionmakers, administrators, and direct care personnel should also be addressed in the application.

Goals and Objectives (10 points)

Applicants must outline a vision for designing and operating NGI in relation to the stated goals and objectives of the initiative. Applicants should also provide justification for the development and delivery of training and onsite technical assistance support and explain the proposed effort. Key issues and potential obstacles related to achieving the goals and objectives of this initiative should be outlined and prioritized.

Project Design (30 points)

Applicants must provide an implementation plan that is specific and constitutes an effective approach to meet the goals and objectives of the project. The plan must include specific tasks, procedures, timelines, milestones, and products. The plan should also include a chart that specifies each milestone, related tasks, lead staff responsible, incremental benchmarks, and dates for task completion. At a minimum, the plan must provide protocols for assessment of technical assistance and training needs and protocols that will be used in the actual delivery of technical assistance. The plan must also describe the process and structure that will be used for curriculum development and modification and discuss how adult learning theory will be employed in its design and delivery. Other tasks, such as designing evaluative and feedback tools and methods for monitoring and refining the plan as the initiative progresses, should be described. The program design should correspond with the project's goals and objectives, the conceptualization of need, and product development identified in this program announcement. Project design elements should directly link to the achievement of specific objectives. Obstacles for achieving expected results should be identified, and alternative plans for overcoming obstacles and rationales for their use should be included.

OJJDP will consider recommendations for modification and enhancement of the products to be delivered to accommodate cost considerations. Where such recommendations are made, justification and alternatives should be proposed. The competitiveness of applications will be enhanced when such modifications and/or enhancements reflect the concept in a compelling and innovative form.

Management (25 points)

Applicants must describe an organizational framework, managerial structure, and staffing approach with the capacity to effectively execute the NGI initiative. Applicants should discuss their history of involvement in gender-specific efforts to support girls, including related policy development, research and evaluation activities, and organizational and/or systems reform. Additionally, applicants must describe their experience in planning and managing national-scope trainings and technical assistance support for decisionmakers, administrators, staff supervisors, and direct care personnel. Further, applicants should discuss their conference planning capabilities and ability to work with a diverse group of agencies and community stakeholders as they relate to achieving the goals and objectives of this initiative. The processes for conducting training and technical assistance needs assessments, monitoring multiple project tasks, and managing a consultant pool of experienced trainers and subject matter experts should also be described. Peer reviewers will carefully examine the applicant's description of organizational, management, and training capabilities to support the cooperative agreement.

In addition to expertise in the subject area of girls' development, treatment needs, and resiliency factors, key project staff must also demonstrate substantive experience in program administration, training and technical assistance delivery and management, curriculum development, and knowledge of the cultural, ethnic, and social conditions that characterize those State, local, and tribal communities where disproportionately high levels of girls of color are adjudicated delinquent.

Résumés of known staff and consultants must be included in the appendix. For proposed staff, applicants must include résumés and letters of commitment in the appendix. For positions that are not designated for identified staff, job descriptions and staff qualifications must be included.

Organizational Capability (15 points)

The ability to administer the initiative effectively should be clearly demonstrated in the application. The documentation should include organizational experience in managing programs in the subject areas listed under “Program Strategy” and with projects of the type and scope described. Additionally, applicants must have experience in managing Federal funds and present a financial management structure that supports the deployment and payment of consultants in a timely manner.

Applicants must also describe and demonstrate an organizational infrastructure that would support the technological and resource requirements of this initiative. Applicants may find it more cost effective to establish contractual relationships for technical or specialized functions required under the cooperative agreement.

Budget (10 points)

Applicants must provide a proposed budget and budget narrative that are complete, detailed, reasonable, allowable, and cost effective in relation to the activities to be undertaken. For budget purposes, applicants should allocate up to $250,000 for the national symposium on girls, travel and per diem for the advisory group meetings, up to 10 training workshops and 12 onsite technical assistance interventions, and presentations at national and State events over a 12-month period.

Format

The narrative must not exceed 50 pages in length (excluding forms, assurances, and appendixes) and must be submitted on 8½-by 11-inch paper, double spaced on one side of the paper in a standard 12-point font. This is necessary to maintain fair and uniform standards among all applicants. If the narrative does not conform to these standards, OJJDP will deem the application ineligible for consideration.

Award Period

This project will be funded for 5 years in five 12-month budget periods. Funding after the first budget period depends on grantee performance, availability of funds, and other criteria established at the time of award.

Award Amount

Up to $1,200,000 is available for the initial 12-month budget period.

Catalog of Federal Domestic Assistance (CFDA) Number

For this program, the CFDA number, which is required on Standard Form 424, Application for Federal Assistance, is 16.542. This form is included in the OJJDP Application Kit, which can be obtained by calling the Juvenile Justice Clearinghouse at 800-638-8736 or sending an e-mail inquiry to puborder@ncjrs.org. The Application Kit is also available online at www.ojjdp.ncjrs.org/grants/about.html#kit.

Coordination of Federal Efforts

To encourage better coordination among Federal agencies in addressing State and local needs, the U.S. Department of Justice (DOJ) is requesting applicants to provide information on the following: (1) Active Federal grant award(s) supporting this or related efforts, including awards from DOJ; (2) any pending application(s) for Federal funds for this or related efforts; and (3) plans for coordinating any funds described in items (1) or (2) with the funding sought by this application. For each Federal award, applicants must include the program or project title, the Federal grantor agency, the amount of the award, and a brief description of its purpose.

The term “related efforts” is defined for these purposes as one of the following:

1. Efforts for the same purpose (i.e., the proposed award would supplement, expand, complement, or continue activities funded with other Federal grants).

2. Another phase or component of the same program or project (e.g., to implement a planning effort funded by other Federal funds or to provide a substance treatment or education component within a criminal justice project).

3. Services of some kind (e.g., technical assistance, research, or evaluation) to the program or project described in the application.

Delivery Instructions

All application packages must be mailed or delivered to the Office of Juvenile Justice and Delinquency Prevention, c/o Juvenile Justice Resource Center, 2277 Research Boulevard, Mail Stop 2K, Rockville, MD 20950; 301-519-5535. Faxed or e-mailed applications will not be accepted. Note: In the lower left-hand corner of the envelope, you must clearly write “National Girls Institute.”

Due Date

Applicants are responsible for ensuring that the original and five copies of the application package are received by 5 p.m. ET on December 1, 2000.

Contact

For further information, contact Gwendolyn Dilworth, Program Manager, Training and Technical Assistance Division, at 202-514-4822, or send an e-mail inquiry to dilwortg@ojp.usdoj.gov.

References

Acoca, L. 1998. Defusing the time bomb: Understanding and meeting the growing health care needs of incarcerated women in America. Crime & Delinquency 44(1):49-69.

Acoca, L. 1999. Investing in girls: A 21st century strategy. Juvenile Justice 6(1):3-13.

Belknap, J. 1996. The Invisible Woman: Gender, Crime and Justice. Belmont, CA: Wadsworth Publishing Company.

Belknap, J., and Holsinger, K. 1998. An overview of delinquent girls: How theory and practice failed and the need for innovative changes. In Female Offenders: Critical Perspectives and Effective Interventions, edited by R.T. Zaplin. Gaithersburg, MD: Aspen Publishers.

Bergsmann, I.R. 1989. The forgotten few: juvenile female offenders. Federal Probation 53(1):73-78.

Bergsmann, I.R.1994. Establishing a foundation: Just the facts. In 1994 Juvenile Female Offenders Conference: A Time for Change. Monograph. Lanham, MD: American Correctional Association, pp. 3-14.

Bloom, B., and Covington, S. 1998. Gender-specific programming for female offenders: What is it and why is it important? Washington, DC. Paper presented at the 50th Annual Meeting of the American Society of Criminology, Washington, DC, November 11-14, 1998. (For copies, contact Stephanie Covington: Institute for Relational Development, SSCIRD@aol.com.)

Campbell, J.R. 1995. Conference focuses on issues facing female juvenile offenders. Corrections Today 57(1):72.

Chesney-Lind, M. 1999. Challenging girls' invisibility in the juvenile court. The Annals of the American Academy of Political and Social Science, 564:185-202.

Chesney-Lind, M., and Freitas, K. 1999. Working with Girls: Exploring Practitioner Issues, Experiences and Feelings: A Report of the Hawaii Girls Project, Volume Four. Mānoa, HI: The Center for Youth Research, Social Science Research Institute, University of Hawaii at Mānoa.

Chesney-Lind, M., and Shelden, R.G. 1997. Girls, Delinquency, and the Juvenile Justice System. 2d ed. Belmont, CA: Wadsworth Publishing Company.

Community Research Associates. 1998. Juvenile Female Offenders: A Status of the States Report. Washington, DC: U.S. Department of Justice, Office of Justice Programs, Office of Juvenile Justice and Delinquency Prevention.

Daniel, M.D. 1999. The female intervention team. Juvenile Justice 6(1):14-20.

Girls Inc. 1996. Prevention and Parity: Girls in Juvenile Justice. Washington, DC: U.S. Department of Justice, Office of Justice Programs, Office of Juvenile Justice and Delinquency Prevention.

Greene, Peters, & Associates. 1998. Guiding Principles for Promising Female Programming: An Inventory of Best Practices. Washington, DC: U.S. Department of Justice, Office of Justice Programs, Office of Juvenile Justice and Delinquency Prevention.

Greene, Peters, & Associates and Northwest Regional Educational Laboratory. Forthcoming. Beyond Gender Barriers: Programming Specifically for Girls. Washington, DC: U.S. Department of Justice, Office of Justice Programs, Office of Juvenile Justice and Delinquency Prevention.

Howell, J.C., ed. 1995. Guide for Implementing the Comprehensive Strategy for Serious, Violent, and Chronic Juvenile Offenders. Washington, DC: U.S. Department of Justice, Office of Justice Programs, Office of Juvenile Justice and Delinquency Prevention.

Hsia, H., and Beyer, M. 2000. System Change Through State Challenge Activities: Approaches and Products. Washington, DC: U.S. Department of Justice, Office of Justice Programs, Office of Juvenile Justice and Delinquency Prevention.

Lindgren, S.J. 1996. Gender-specific programming for female adolescents. Unpublished master's thesis. Minneapolis, MN: Augsburg College.

Martin, T. 1998. Planning for Gender-Specific Services for Girls at Risk in Multnomah County, Oregon: Current Status and Future Directions. Aloha, OR: Law and Policy Associates.

Moone, J. 1997. Children in Custody: Private Facilities, 1991-1995. Washington, DC: U.S. Department of Justice, Office of Justice Programs, Office of Juvenile Justice and Delinquency Prevention.

Motiuk, L., and Blanchette, K. Assessing women offenders: What works. Paper presented at the 6th Annual International Community Corrections Association Research Conference in Arlington, VA, September 1998. (Copies available from the National Institute of Corrections Information Center via e-mail: asknic@ic.org.)

National Institute of Corrections. 1998. Current Issues in the Operation of Women's Prisons. Longmont, CO: U.S. Department of Justice, National Institute of Corrections.

Office of Juvenile Justice and Delinquency Prevention National Training and Technical Assistance Center. 2000. Core Performance Standards for Delivery and Evaluation of Training and Technical Assistance. Washington, DC: U.S. Department of Justice, Office of Justice Programs, Office of Juvenile Justice and Delinquency Prevention. (Available online at www.nttac.org.)

Poe-Yamagata, E., and Butts, J. 1996. Female Offenders in the Juvenile Justice System. Statistics Summary. Washington, DC: U.S. Department of Justice, Office of Justice Programs, Office of Juvenile Justice and Delinquency Prevention.

Ravoira, L. National Girls' Caucus. Juvenile Justice 6(1):21-28.

Snell, U. 1994. Women in Prison: Survey of State Prison Inmates, 1991. Bureau of Justice Statistics Special Report. Washington, DC: U.S. Department of Justice, Office of Justice Programs, Bureau of Justice Statistics.

Snyder, H.N. 1999. Juvenile Arrests 1998. Bulletin. Washington, DC: U.S. Department of Justice, Office of Justice Programs, Office of Juvenile Justice and Delinquency Prevention.

Snyder, H.N., and Sickmund, M. 1999. Juvenile Offenders and Victims: 1999 National Report. Washington, DC: U.S. Department of Justice, Office of Justice Programs, Office of Juvenile Justice and Delinquency Prevention.

Taylor, C., and Stacks, A. 2000. Meeting development needs of girls in the justice system. Journal of Emotional and Behavioral Problems 8(4):210-212.

U.S. Department of Education. 1998. To Assure the Free Appropriate Public Education of All Children with Disabilities. 20th Annual Report to Congress on the Implementation of the Individuals with Disabilities Education Act. Washington, DC: U.S. Department of Education.

Wilson, J.J., and Howell, J.C. 1993. Comprehensive Strategy for Serious, Violent, and Chronic Juvenile Offenders. Program Summary. Washington, DC: U.S. Department of Justice, Office of Justice Programs, Office of Juvenile Justice and Delinquency Prevention.

Dated: September 27, 2000.
John J. Wilson,
Acting Administrator, Office of Juvenile Justice and Delinquency Prevention.

[FR Doc. 00-25240 Filed 9-29-00; 8:45 am]

BILLING CODE 4410-18-P